DEPARTMENT OF THE TREASURY

Submission for OMB Review; Comment Request

April 10, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 22, 2002 to be assured of consideration.

Internal Revenue Service (IRS)

OMB Number: 1545-0065.

Form Number: IRS Forms 4070, 4070A, 4070PR and 4070A-PR.

Type of Review: Revision.

Title: Form 4070: Employee's Report of Tips to Employer; Form 4070A: Employee's Daily Record of Tips; Forma 4070PR: Informe al Patrono de Propinas Recibidas por el Empleado; and Form 4070A-PR: Registro Diario de Propinas del Empleado.

Description: Employees who receive at least $20 per month in tips must report the tips to their employers monthly for purposes of withholding of employment taxes. Forms 4070 and 4070PR (Puerto Rico only) are used for this purpose. Employees must keep a daily record of tips they receive. Forms 4070A and 4070A-PR are used for this purpose.

Respondents: Individuals or households.

Estimated Number of Respondents/Recordkeepers: 615,000.

Estimated Burden Hours Per Respondent/Recordkeeper:

Form | Recordkeeping | Learning about the law or the the form (minutes) | Preparing the form (minutes) | Copying, assembling, and sending the form to the IRS (minutes)
Form 4070 | 7 min | 2 | 13 | 10
Form 4070A | 3 hr., 23 min | 2 | 55 | 28

Frequency of Response: Monthly.

Estimated Total Reporting/Recordkeeping Burden: 39,265,200 hours.

OMB Number: 1545-0090.

Form Number: IRS Forms 1040-SS, 1040-PR and Anejo H-PR.

Type of Review: Extension.

Title: Form 1040-SS: U.S. Self-Employment Tax Return; Form 1040-PR: Planilla Para La Declaracion De La Contribucion Federal Sobre El Trabajo Por Cuenta Propria—Puerto Rico; and Anejo H-PR: Contribuciones Sobre El Empleo De Empleados Domesticos.

Description: Form 1040-SS (Virgin Islands, Guam, American Samoa, the Northern Mariana Islands) and 1040-PR (Puerto Rico) are used by self-employed individuals to figure and report self-employment tax under IRC chapter 2 of Subtitle A, and provide credit to the taxpayer's social security account. Anejo H-PR is used to compute household employment taxes. Form 1040-SS and Form 1040-PR are also used by bona-fide residents of Puerto Rico to claim the additional child tax credit.

Respondents: Individuals or households, Business or other for-profit.

Estimated Number of Respondents/Recordkeepers: 244,400.

Estimated Burden Hours Per Respondent/Recordkeeper:

Recordkeeping—7 hr., 51 min.

Learning about the law or the form—37 min.

Preparing the form—3 hr., 48 min.

Frequency of Response: Annually.

Estimated Total Reporting/Recordkeeping Burden: 3,238,252 hours.

Clearance Officer: Glenn Kirkland, Internal Revenue Service, Room 6411-03, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 02-9697 Filed 4-19-02; 8:45 am]

BILLING CODE 4830-01-P